DEPARTMENT OF ENERGY

Federal Energy Regulatory Commission

Notice of Application for Surrender of Exemption and Soliciting Comments, Motions To Intervene, and Protests

December 23, 2002.

Take notice that the following hydroelectric application has been filed with the Commission and is available for public inspection:

a. Application Type: Surrender of Exemption.

b. Project No.: P-6564.

c. Date Filed: December 11, 2002.

d. Applicant: Bob Horning.

e. Name of Project: Brunswick Creek Hydroelectric Project.

f. Location: The project is located on Brunswick Creek, in Washington County, Oregon. This project does not utilize Federal or Tribal lands.

g. Filed Pursuant to: Federal Power Act, 16 U.S.C. 791(a)-825(r).

h. Applicant Contact: Bob Horning, 21277 NW Brunswick Canyon Road, North Plains, OR 97133. (503) 647-2920.

i. FERC Contact: Blake Condo at blake.condo@ferc.gov, or telephone (202) 502-8914.

j. Cooperating agencies: We are asking Federal, State, local, and tribal agencies with jurisdiction and/or special expertise with respect to environmental issues to cooperate with us in the preparation of the environmental document. Agencies who would like to request cooperating status should follow the instructions for filing comments described in item k below.

k. Deadline for filing comments, motions, or protests and requests for cooperating agency status: January 27, 2003.

All documents (original and eight copies) should be filed with: Magalie R. Salas, Secretary, Federal Energy Regulatory Commission, Mail Code: DEER, PJ-11.3, 888 First Street, NE., Washington, DC 20426. Comments and protests may be filed electronically via the internet in lieu of paper. See 18 CFR 385.2001(a)(1)(iii) and the instructions on the Commission's Web site at http://www.ferc.gov/documents/makeanelectronicfiling/doorbell.htm.

Please include the project number (P-6564) on any comments or motions filed.

l. Description of Project: Jane Horning, exemptee for the Brunswick Creek Hydroelectric Project (Project), requests to surrender its exemption for the existing, non-operational Project.

m. Locations of the application: A copy of the application is available for inspection and reproduction at the Commission's Public Reference Room, located at 888 First Street, NE., Room 2A, Washington, DC 20426, or by calling (202) 502-8371. The application may be viewed on the web at http://www.ferc.gov. Call (202) 502-8222 for assistance. A copy is also available for inspection and reproduction at the address in item h above.

n. Individuals desiring to be included on the Commission's mailing list should so indicate by writing to the Secretary of the Commission.

o. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

p. Agency Comments—Federal, State, and local agencies are invited to file comments on the described application. A copy of the application may be obtained by agencies directly from the Applicant. If an agency does not file comments within the time specified for filing comments, it will be presumed to have no comments. One copy of an agency's comments must also be sent to the applicant's representatives.

Linwood A. Watson, Jr.,
Deputy Secretary.

[FR Doc. 02-32877 Filed 12-27-02; 8:45 am]

BILLING CODE 6717-01-P